DEPARTMENT OF COMMERCE

National Oceanic and Atomospheric Administration

50 CFR Parts 600 and 660

[Docket No. 011231309-2090-03; I.D. 062702C]

Magnuson-Stevens Act Provisions; Fisheries off the West Coast States and in the Western Pacific; Pacific Coast Groundfish Fishery; Groundfish Fishery Management Measures; Correction

AGENCY: National Marine Fisheries Service (NMFS), National Oceanic and Atmospheric Administration (NOAA), Commerce.

ACTION: Correction to trip limit adjustments in the Pacific Coast groundfish fishery.

SUMMARY: This document contains corrections to the trip limit adjustments published on July 5, 2002, for the Pacific Coast groundfish fishery, and to the limited entry trawl trip limit table for Pacific Ocean perch, widow rockfish, yellowtail rockfish, and whiting.

DATES: Effective 0001 hours local time August 28, 2002, through the effective date of the 2003 specifications and management measures, unless modified, superceded, or rescinded through a publication in the Federal Register.

FOR FURTHER INFORMATION CONTACT: Jamie Goen (NMFS, Northwest Region), 206-526-6140.

SUPPLEMENTARY INFORMATION:

The specifications and management measures for the current fishing year (January 1—December 31, 2002) were initially published in the Federal Register as an emergency rule for January 1 - February 28, 2002 (67 FR 1540, January 11, 2002), as a proposed rule for all of 2002 (67 FR 1555, January 11, 2002), and as a final rule effective March 1, 2002 (67 FR 10490, March 7, 2002). The final rule was subsequently amended at 67 FR 15338, April 1, 2002; at 67 FR 18117, April 15, 2002; at 67 FR 30604, May 7, 2002; at 67 FR 40870, June 14, 2002; at 67 FR 44778, July 5, 2002; at 67 FR 48571, July 25, 2002; and at 67 FR 50835, August 6, 2002.

Trip limit adjustments published on July 5, 2002, contained technical errors and errors in the limited entry trawl trip limit table that require correction. The limited entry trawl trip limit table is corrected to close Pacific Ocean perch north of 40°10′ N. latitude (lat.) on September 1, 2002, as scheduled for all trawl fisheries north of 40°10′ N. lat. The whiting footnote for the “per trip” limit inside 100 fathoms in the Eureka area is also corrected to reflect the trawl closure north of 40°10′ N. lat. on September 1, 2002. At its June 17-21, 2002, meeting, the Pacific Fishery Management Council decided to close trawl fisheries north of 40°10′ N. lat. to protect several overfished species, including darkblotched rockfish. In addition, mid-water trawl limits for widow rockfish and yellowtail rockfish north of 40°10′ N. lat. are corrected to close on September 1, 2002. (Widow and yellowtail rockfish commonly co-occur with Pacific whiting). As a result, the mid-water trawl trip limits for widow and yellowtail rockfish were put in place to accommodate interception of these species by vessels fishing for whiting during the whiting primary season. Therefore, the widow and yellowtail rockfish mid-water trawl fisheries were essentially closed when the whiting primary season ended on July 17, 2002 (67 FR 47470, July 19, 2002). This document corrects the errors and re-publishes the limited entry trawl trip limit table.

Corrections

In the rule FR Doc. 02-16811, in the issue of Friday, July 5, 2002 (67 FR 444778) make the following corrections:

1. On page 44781, in column 2, under NMFS Actions, the amendatory paragraph No. 1. is corrected to read as follows:

“1. On page 10511, in column 1, in section IV. under A. General Definitions and Provisions, paragraph 6(d) is revised to read as follows:”

2. On pages 44782—44783, Table 3 is corrected to read as follows:

BILLING CODE 3510-22-S

BILLING CODE 3510-22-C

3. On page 44786, in column 1, the paragraph (designation “(i)(a)” is corrected to read as “(2)(a)”.

4. On page 44786, in column 1, the amendatory paragraph No. 6 is corrected to read as follows:

“6. On page 10521, in column 3, in Section IV., under D. Recreational Fishery, paragraph (1)(a)(ii) is revised and on page 10522, in columns 1 and 2, under D. Recreational Fishery, paragraph (1)(a)(iii) is revised and paragraph (1)(b)(ii) is revised to read as follows:”

Authority: 16 U.S.C. 1801 et seq.

Dated: August 22, 2002.
Virginia M. Fay,
Acting Director, Office of Sustainable Fisheries, National Marine Fisheries Service.

[FR Doc. 02-21813 Filed 8-27-02; 8:45 am]

BILLING CODE 3510-22-S